DEPARTMENT OF HOMELAND SECURITY

Federal Emergency Management Agency

[Docket ID FEMA-2022-0002; Internal Agency Docket No. FEMA-B-2217]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before June 13, 2022.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https:/msc.fema.gov for comparison.

You may submit comments, identified by Docket No. FEMA-B-2217, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Johnston County, Oklahoma and Incorporated Areas
Project: 20-06-0098S Preliminary Date: August 27, 2021
City of Tishomingo | City Hall, 1130 East Main Street, Tishomingo, OK 73460.
Town of Mannsville | Town Hall, 103 South 18th Street, Mannsville, OK 73447.
Town of Milburn | City Hall, 101 Main Street, Milburn, OK 73450.
Town of Mill Creek | Town Hall, 105 East Main Street, Mill Creek, OK 74856.
Town of Ravia | Town Hall Complex, 109 East Grand Avenue, Ravia, OK 73455.
Town of Wapanucka | City Hall, 211 South Choctaw Avenue, Wapanucka, OK 73461.
Unincorporated Areas of Johnston County | Johnston County Commissioner's Office, 705 West Main Street, Tishomingo, OK 73460.
Murray County, Oklahoma and Incorporated Areas
Project: 20-06-0099S Preliminary Date: August 27, 2021
City of Davis | City Hall, 227 East Main Street, Davis, OK 73030.
City of Sulphur | City Hall, 600 West Broadway Avenue, Sulphur, OK 73086.
Town of Dougherty | Murray County Courthouse, 1001 West Wyandotte Avenue, Sulphur, OK 73086.
Unincorporated Areas of Murray County | Murray County Courthouse, 1001 West Wyandotte Avenue, Sulphur, OK 73086.
Ellis County, Texas and Incorporated Areas
Project: 20-06-0076S Preliminary Date: April 13, 2021
City of Cedar Hill | Public Works Department, 285 Uptown Boulevard, Cedar Hill, TX 75104.
City of Ennis | City Hall, 115 West Brown Street, Ennis, TX 75119.
City of Grand Prairie | Municipal Complex, Stormwater Department, 300 West Main Street, Grand Prairie, TX 75050.
City of Mansfield | City Hall, 1200 East Broad Street, Mansfield, TX 76063.
City of Midlothian | City Hall, 104 West Avenue East, Midlothian, TX 76065.
City of Oak Leaf | City Hall, 301 Locust Drive, Oak Leaf, TX 75154.
City of Ovilla | City Hall, 105 Cockrell Hill Road, Ovilla, TX 75154.
City of Pecan Hill | Pecan Hill City Hall, 1094 South Lowrance Road, Red Oak, TX 75154.
City of Red Oak | City Hall, 200 Lakeview Parkway, Red Oak, TX 75154.
City of Venus | City Hall, 700 West US Highway 67, Venus, TX 76084.
City of Waxahachie | City Hall, 401 South Rogers Street, Waxahachie, TX 75165.
Unincorporated Areas of Ellis County | Ellis County Courthouse, 101 West Main Street, Waxahachie, TX 75165.

[FR Doc. 2022-05362 Filed 3-14-22; 8:45 am]

BILLING CODE 9110-12-P